FEDERAL MINE SAFETY AND HEALTH REVIEW COMMISSION

Sunshine Act Meeting

November 12, 2004.

Time and Date: 10 a.m., Thursday, November 18, 2004.

Place: The Richard V. Backley Hearing Room, 9th Floor, 601 New Jersey Avenue, NW., Washington, DC.

Status: Open.

Matters to be Considered: The Commission will consider and act upon the following in open session: Secretary of Labor v. Eastern Associated Coal Corporation, Docket No. WEVA 2002-46. (Issues include whether the judge properly concluded that Eastern Associated Coal Corp. violated 30 CFR 48.11(a)(3) when it did not train two independent contractor employees on the provisions of its roof control plan addressing roof grouting.)

The Commission heard oral arguments in this matter on November 9, 2004.

Any person attending this meeting who requires special accessibility features and/or auxiliary aids, such as sign language interpreters, must inform the Commission in advance of those needs, subject to 29 CFR 2706.150(a)(3) and § 2706.160(d).

Contact Person For More Info: Jean Ellen, (202) 434-9950 / (202) 708-9300 for TDD Relay / 1-800-877-8339 for toll free.

Jean H. Ellen,
Chief Docket Clerk.

[FR Doc. 04-25712 Filed 11-16-04; 12:51 pm]

BILLING CODE 6735-01-M